INTERNATIONAL TRADE COMMISSION

[Investigation Nos. 731-TA-1378-1379 (Review)]

Low Melt Polyester Staple Fiber From South Korea and Taiwan

Determinations

On the basis of the record ¹ developed in the subject five-year reviews, the United States International Trade Commission (“Commission”) determines, pursuant to the Tariff Act of 1930 (“the Act”), that revocation of the antidumping duty orders on low melt polyester staple fiber from South Korea and Taiwan would be likely to lead to continuation or recurrence of material injury to an industry in the United States within a reasonably foreseeable time.

¹ The record is defined in § 207.2(f) of the Commission's Rules of Practice and Procedure (19 CFR 207.2(f)).

Background

The Commission instituted these reviews on July 3, 2023 (88 FR 42688) and determined on October 6, 2023 that it would conduct expedited reviews (88 FR 73870, October 27, 2023).

The Commission made these determinations pursuant to section 751(c) of the Act (19 U.S.C. 1675(c)). It completed and filed its determinations in these reviews on December 13, 2023. The views of the Commission are contained in USITC Publication 5480 (December 2023), entitled Low Melt Polyester Staple Fiber from South Korea and Taiwan: Investigation Nos. 731-TA-1378-1379 (Review).

By order of the Commission.
Issued: December 13, 2023.
Lisa Barton,
Secretary to the Commission.

[FR Doc. 2023-27778 Filed 12-18-23; 8:45 am]

BILLING CODE 7020-02-P